DEPARTMENT OF EDUCATION

The International Research and Studies Program

AGENCY: Department of Education.

ACTION: Publication of the year 2000 annual report.

SUMMARY: The Secretary announces the publication of the annual report listing the books and research materials produced with assistance provided under Section 605 of the Higher Education Act (HEA), as amended.

SUPPLEMENTARY INFORMATION: Section 605 of the HEA authorizes the International Research and Studies Program. Under this program, the Secretary awards grants and contracts for—

(a) Studies and surveys to determine the needs for increased or improved instruction in modern foreign languages, area studies, or other international fields, including the demand for foreign language, area, and other international specialists in government, education, and the private sector;

(b) Studies and surveys to assess the use of graduates of programs supported under Title VI by governmental, educational, and private sector organizations and other studies assessing the outcomes and effectiveness of programs so supported;

(c) Evaluation of the extent to which programs assisted under Title VI that address national needs would not otherwise be offered;

(d) Comparative studies of the effectiveness of strategies to provide international capabilities at institutions of higher education;

(e) Research on more effective methods of providing instruction and achieving competency in foreign languages, area studies, or other international fields;

(f) The development and publication of specialized materials for use in foreign language, area studies, and other international fields, or for training foreign language, area, and other international specialists;

(g) Studies and surveys of the uses of technology in foreign language, area studies, and international studies programs;

(h) Studies and evaluations of effective practices in the dissemination of international information, materials, research, teaching strategies, and testing techniques throughout the education community, including elementary and secondary schools; and

(i) Research on applying performance tests and standards across all areas of foreign language instruction and classroom use.

2000 Program Activities

In fiscal year 2000, 19 new grants ($1,893,600) and 15 continuation grants ($1,981,400) were awarded under the International Research and Studies Program. These grants are active currently and will be monitored through progress reports submitted by grantees. Grantees have 90 days after the expiration of the grant to submit the products resulting from their research to the Department of Education for review and acceptance.

Completed Research

A number of completed research projects resulting from grants made during prior fiscal years have been received during the past year. These are listed below.

Title | Author/Location
Yemeni Arabic-English Dictionary | Hamdi A. Qafisheh, Near Eastern Studies, University of Arizona, P.O. Box 210080, Tucson, AZ 85721-0080.
U.S.-Mexico Relations Curriculum Project | Walter Falcon, Institute for International, Studies, C100 Encina Hall, Stanford University, Stanford, CA 94305-6055.
Internet Living Swahili Dictionary | Ann Biersteker, Yale University, Council on African Studies, 155 Whitney Avenue, New Haven, CT 06511.
A National Survey of Foreign Language Instruction in Elementary and Secondary Schools 1995-1998 which contains: The National Survey, A National Directory of Early Foreign Language Programs: Searchable Web Database, and Lessons Learned from Model Early Foreign Language Programs | Nancy C. Rhodes and Lucinda E. Branaman, Center for Applied Linguistics (CAL), 4646 40th Street, NW, Washington, DC 20016.
Development of Curriculum Materials on China and Japan | Linda K. Menton and Eileen H. Tamura, Curriculum Research and Development Group, University of Hawaii at Manoa, 1776 University Avenue, Honolulu, HI 96822.
SEAsite: A World Wide Web Site for the Languages of Southeast Asia | George M. Henry, Department of Computer Science, Northern Illinois University, Dekalb, IL 60115.
Starfestival Net: An Internet Prototype for International Studies in the Less-Commonly Taught Languages | Shigeru Miyagawa, Massachusetts Institute of Technology, Department of Foreign Languages and Literatures, 77 Massachusetts Avenue, 14N-305, Cambridge, MA 02139.
Beyond the Oral Proficiency Interview (OPI): The Standards Assessment Design Project: The PAU Project | Elvira Swender, American Council on the Teaching of Foreign Languages, Inc. (ACTFL), 6 Executive Plaza, Yonkers, NY 10701-6801.
Survey of Foreign Language Registrations in United States Colleges and Universities, Fall 1998 with Comparative Registration Data for 1960, 1968, 1986, 1990 and 1995 | Richard Brod, Modern Language Association of America, 10 Astor Place, New York, NY 10003.
Audio Program for Chinese: Communicating in the Culture | Galal Walker, The Ohio State University, 1960 Kenny Road, Foreign Language Center, Columbus, OH 43210-1063.
Multimedia Chinese Courseware for Classroom And Distance Learning Curriculum | Ching-I Tu, East Asian Languages and Cultures, Rutgers University, Scott Hall 330, 43 College Avenue, New Brunswick, NJ 08901-1164.

To obtain a copy of a completed study, contact the author at the given address.

FOR FURTHER INFORMATION CONTACT: For a copy of the 2000 annual report and further information regarding the International Research and Studies Program, write to Jose L. Martinez, Program Officer, International Education and Graduate Programs Service, U.S. Department of Education, 1990 K Street, NW., Washington, DC 20006-8521. Telephone: (202) 502-7635.

If you use a telecommunication device for the deaf (TDD), you may call the Federal Information Relay Service (FIRS) at 1-800-877-8339.

Individuals with disabilities may obtain this document or the 2000 annual report referred to in this notice in an alternative format (e.g. Braille, large print, audiotape, or computer diskette) on request to the program contact person listed under FOR FURTHER INFORMATION CONTACT.

Electronic Access to This Document

You may view this document, as well as all other Department of Education documents published in the Federal Register, in text or Adobe Portable Document Format (PDF) on the Internet at either of the following sites:

http://ocfo.ed.gov/fedreg.htm

http://www.ed.gov/news.html

To use PDF you must have Adobe Acrobat Reader, which is available free at either of the previous sites. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at:

http://www.access.gpo.gov/nara/index.html

Program Authority: 20 U.S.C. 1125.

Dated: January 3, 2001.
A. Lee Fritschler,
Assistant Secretary, Office of Postsecondary Education.

[FR Doc. 01-461 Filed 1-5-01; 8:45 am]

BILLING CODE 4000-01-P